NUCLEAR REGULATORY COMMISSION

[Docket Nos. 50-266 and 50-301]

Nuclear Management Company, LLC; Notice of Consideration of Issuance of Amendments to Facility Operating Licenses, Proposed No Significant Hazards Consideration Determination, and Opportunity for a Hearing

The U.S. Nuclear Regulatory Commission (the Commission) is considering issuance of amendments to Facility Operating License Nos. DPR-24 and DPR-27 issued to Nuclear Management Company, LLC (the licensee), for operation of the Point Beach Nuclear Plant (PBNP), Units 1 and 2, located in the Town of Two Creeks, Manitowoc County, Wisconsin.

The proposed amendments would revise the licensing basis as described in the Point Beach Nuclear Plant Final Safety Analysis Report to incorporate the proposed Unit 1 reactor vessel head (RVH) drop analysis and the revised Unit 2 RVH drop analysis.

Before issuance of the proposed license amendments, the Commission will have made findings required by the Atomic Energy Act of 1954, as amended (the Act), and the Commission's regulations.

The Commission has made a proposed determination that the amendment requests involve no significant hazards consideration. Under the Commission's regulations in title 10 of the Code Of Federal Regulations (10 CFR), section 50.92, this means that operation of the facility in accordance with the proposed amendments would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Would the proposed amendment involve a significant increase in the probability or consequences of any accident previously evaluated?

Response: No.

The proposed change incorporates the revised heavy load analysis into the PBNP FSAR. This analysis involves the postulated drop of the RVH [reactor vessel head] over a reactor vessel containing fuel assemblies. Assuming that the BMI [bottom mounted instrument] tubes are severed as a result of displacement of the reactor vessel, a decrease in reactor coolant inventory will occur. Thus, a RVH drop can be postulated as an initiator of a Loss of Coolant Accident (LOCA) under shutdown conditions.

A RVH drop is of sufficiently low probability such that, for Unit 1, the probability of a LOCA is not significantly increased over the current licensing basis large break LOCA. For Unit 2, the probability is unchanged from the previously approved RVH drop analysis.

For Unit 1, supplemental administrative controls have been established to assure continued availability of multiple independent sources of water to provide core cooling and makeup water well in excess of the postulated LOCA. Containment closure will also be established during this evolution. No pressurization of the reactor coolant system will occur as a result of this postulated event. For Unit 2, the previously approved administrative controls have been revised, consistent with those submitted for Unit 1 herein, to provide additional makeup water capacity.

The calculated radiological consequences of the postulated RVH drop are within those calculated for the current licensing basis large break LOCA. Therefore, the consequences of a LOCA are not increased. The proposed change is consistent with safety analysis assumptions and resultant consequences. All Technical Specifications are satisfied and required equipment is operable. Therefore, this change would not significantly increase the probability of occurrence or consequences of any accident previously evaluated.

2. Would the proposed amendment create the possibility of a new or different kind of accident from any accident previously evaluated?

Response: No.

For Unit 1, the proposed change incorporates the revised heavy load analysis into the PBNP FSAR. This analysis involves the postulated drop of the RVH over a reactor vessel containing fuel assemblies. Assuming that the BMI tubes are severed as a result of displacement of the reactor vessel, a decrease in reactor coolant inventory will occur. Thus, a RVH drop can be postulated as an initiator of a LOCA under shutdown conditions.

Adequate core cooling and makeup water remains available from core cooling water systems. Maintaining core cooling and makeup and closing containment assures that the drop of a RVH is bounded by the existing licensing basis analysis for a LOCA. The drop of a RVH was previously evaluated by the NRC for Unit 2 in a safety evaluation dated June 24, 2005. Therefore, the proposed changes would not create the possibility of a new or different kind of accident from any previously evaluated.

3. Would the proposed amendment result in a significant reduction in a margin of safety?

Response: No.

For Unit 1, the proposed change incorporates the revised heavy load analysis into the PBNP FSAR. This analysis involves the postulated drop of the RVH over a reactor vessel containing fuel assemblies. Assuming that the BMI tubes are severed as a result of displacement of the reactor vessel, a decrease in reactor coolant inventory will occur. Thus, a RVH drop can be postulated as an initiator of a LOCA under shutdown conditions.

The frequency and consequences of a RVH drop are comparable to or within those of the current licensing basis large break LOCA. The proposed change does not alter any safety limits, limiting safety system settings, or limiting conditions for operation as defined in the Technical Specifications. The drop of a RVH was previously evaluated by the NRC for Unit 2 in a safety evaluation dated June 24, 2005. Therefore, the proposed amendment does not result in a significant reduction in a margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 30 days after the date of publication of this notice will be considered in making any final determination.

Normally, the Commission will not issue the amendments until the expiration of 60 days after the date of publication of this notice. The Commission may issue the license amendments before expiration of the 60-day period provided that its final determination is that the amendments involve no significant hazards consideration. In addition, the Commission may issue the amendments prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room (PDR), located at One White Flint North, Public File Area O1 F21, 11555 Rockville Pike (first floor), Rockville, Maryland.

The filing of requests for hearing and petitions for leave to intervene is discussed below.

Within 60 days after the date of publication of this notice, the licensee may file a request for a hearing with respect to issuance of the amendments to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.309, which is available at the Commission's PDR, located at One White Flint North, Public File Area O1F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner/requestor must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner to relief. A petitioner/requestor who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

Nontimely requests and/or petitions and contentions will not be entertained absent a determination by the Commission or the presiding officer of the Atomic Safety and Licensing Board that the petition, request and/or the contentions should be granted based on a balancing of the factors specified in 10 CFR 2.309(c)(1)(i)-(viii).

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland, 20852, Attention: Rulemaking and Adjudications Staff; (3) E-mail addressed to the Office of the Secretary, U.S. Nuclear Regulatory Commission, hearingdocket@nrc.gov; or (4) facsimile transmission addressed to the Office of the Secretary, U.S. Nuclear Regulatory Commission, Washington, DC, Attention: Rulemaking and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to 301-415-3725 or by e-mail to OGCMailCenter@nrc.gov. A copy of the request for hearing and petition for leave to intervene should also be sent to the Jonathan Rogoff, Esquire, Vice President, Counsel & Secretary, Nuclear Management Company, LLC, 700 First Street, Hudson, WI 54016, attorney for the licensee.

For further details with respect to this action, see the application for amendments dated July 24, 2005, which is available for public inspection at the Commission's PDR, located at One White Flint North, File Public Area O1 F21, 11555 Rockville Pike (first floor), Rockville, Maryland. Publicly available records will be accessible from the Agencywide Documents Access and Management System's (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail to pdr@nrc.gov.

Dated at Rockville, Maryland, this 10th day of August 2005.
For the Nuclear Regulatory Commission.
Harold K. Chernoff,
Senior Project Manager, Section 1, Project Directorate III, Division of Licensing Project Management, Office of Nuclear Reactor Regulation.

[FR Doc. E5-4419 Filed 8-15-05; 8:45 am]

BILLING CODE 7590-01-P